DEPARTMENT OF EDUCATION

[CFDA No. 84.351D]

Office of Innovation and Improvement—Arts in Education Model Development and Dissemination Grant Program; Notice Inviting Applications for New Grant Awards for Fiscal Year (FY) 2003

Note to Applicants: This notice is a complete application package. Together with the statute authorizing these grants and the Education Department General Administrative Regulations (EDGAR), this notice contains all of the information, application forms, and instructions needed to apply for an Arts in Education Model Development and Dissemination grant under this competition. This grant program is authorized by Title V, Part D, Subpart 15 of the Elementary and Secondary Education Act (ESEA) as reauthorized by the No Child Left Behind Act of 2001 (NCLB).

Purpose of Program: The Arts in Education Model Development and Dissemination Grant Program supports the development, documentation, evaluation and dissemination of innovative, cohesive models that have demonstrated their effectiveness in (1) integrating arts into the core elementary and middle school curricula, (2) strengthening arts instruction in these grades, and (3) improving students' academic performance, including their skills in creating, performing, and responding to the arts.

The Arts in Education Model Development and Dissemination Grant Program provides resources that local educational agencies (LEAs) and other eligible applicants can use in pursuit of the objectives of the No Child Left Behind Act which aims for all elementary and secondary students to achieve high standards. This program provides an opportunity for eligible entities to develop programs in schools identified for improvement, corrective action, or restructuring under Title I, Part A of the ESEA.

Eligible Applicants: (1) One or more LEAs, including charter schools that are considered LEAs under State law and regulations, that may work in partnership with one or more of the following:

• State or local non-profit or governmental arts organizations.

• State educational agencies (SEAs) or regional educational service agencies.

• Institutions of higher education.

• Other public and private agencies, institutions, and organizations with expertise in the arts.

(2) One or more State or local non-profit or governmental arts organizations that must work in partnership with one or more LEAs and may partner with one or more of the following:

• SEAs or regional educational service agencies.

• Institutions of higher education.

• Other public and private agencies, institutions, and organizations with expertise in the arts.

Note: If more than one LEA or arts organization wishes to form a consortium and jointly submit a single application, they must follow the procedures for group applications described in 34 CFR 75.127-75.129 of EDGAR.

Notification of Intent to Apply for Funding: The Department will be able to develop a more efficient process for reviewing grant applications if it has an estimate of the number of entities that intend to apply for funding under this competition. Therefore, the Secretary strongly encourages each potential applicant to notify the Department with a short e-mail noting the intent to submit an application for funding. The e-mail need not include information regarding the content of the proposed application, only the applicant's intent to submit it. The Secretary requests that this e-mail notification be sent no later than June 16, 2003. The e-mail notification should be sent to Diane.Austin@ed.gov. Applicants that fail to provide this e-mail notification may still apply for funding.

Deadline for Transmittal of Applications: 7-10-03.

Deadline for Intergovernmental Review: 9-8-03.

Estimated Available Funds: $8,360,300.

Estimated Range of Awards: $293,000-$836,000 (total for the 3-year project period. Funding of continuation awards after the initial year of funding is contingent upon future Congressional appropriations for the program).

Estimated Average Size of Awards: 750,000 total for the 3-year project period; equates to an average of $250,000 per year.

Estimated Number of Awards: 33.

Note: The Department of Education is not bound by any estimates in this notice.

Project Period: Up to 36 months.

Note: Applicants for multi-year awards are required to provide detailed budget information for the total grant period requested. The Secretary will determine at the time of the initial award the funding levels for each year of the grant award.

Project Directors Meeting. Applicants should budget for a two-day meeting for project directors in Washington, DC.

Applicable Regulations and Statute: (a) Regulations. EDGAR in 34 CFR Parts 75, 77, 79, 80, 81, 82, 85, 86, 97, 98, and 99. (b) Statute. Title V, Part D, Subpart 15, of the Elementary and Secondary Education Act as reauthorized by the No Child Left Behind Act of 2001.

Coordination Requirement: Under section 5551(f)(1) of the ESEA, the Secretary requires that each entity funded under this program coordinate, to the extent practicable, each project or program carried out with such assistance with appropriate activities of public or private cultural agencies, institutions, and organizations, including museums, arts education association, libraries and theaters.

Supplement, Not Supplant, Requirement: Under section 5551(f)(2) of the authorizing statute, the Secretary requires that assistance provided under this program be used only to supplement, and not supplant, other assistance or funds made available from non-federal sources for the activities assisted under this subpart.

SUPPLEMENTARY INFORMATION: While many schools and districts have moved swiftly in recent years to reform and enhance traditional core academic programs, most have not made similar efforts to integrate arts effectively into the regular curriculum, either as a vehicle by which to strengthen other core academic subjects or as an academic discipline in its own right. High-quality programs effectively integrating and improving arts instruction are increasingly important as students face the demands of the information age in the 21st century. Creating, performing, and responding to works of art builds creativity, self-confidence, and critical thinking skills—qualities central to success in school, work, and life.

For several reasons, high-quality arts and art education programs have implications for other areas of students' academic development. Studies have found that improving the quality of arts education has a particularly positive impact on students from low-income backgrounds. Unfortunately, students from low socioeconomic backgrounds are almost twice as likely to attend arts-poor schools, while students from socio-economically advantaged backgrounds are twice as likely to attend “arts-rich” schools.

The Arts in Education Model Development and Dissemination Grant Program seeks to address the lack of high quality, research-based models by encouraging partnerships of arts and education specialists to further develop and document effective models for improving arts education and student achievement—particularly for students from poor and disadvantaged backgrounds.

Description of Program: The Arts in Education Model Development and Dissemination Grant program is authorized under section 5551, Part D, Subpart 15 of Title V of the ESEA. The Arts in Education Model Development and Dissemination Grant program furthers the development of promising comprehensive models for integrating arts into the school curriculum. In this case, “integrating” should be understood as both strengthening the use of high-quality arts within other academic instruction and strengthening the place of arts as a core academic subject in the regular school curriculum.

This program seeks to provide more communities with solid information regarding innovative, research-based models for effectively strengthening arts instruction, improving students' skills in creating, performing, and responding to works of arts, and increasing student achievement in other academic subjects.

These grants are designed to enable LEAs and organizations with arts expertise to further develop and create materials for the replication or adaptation of current comprehensive approaches for integrating a range of arts disciplines—such as music, dance, theater, and visual arts, including folk arts—into the elementary and middle school curriculum. Such development work should yield more systematic information about effective models that provide quality arts instruction and use the arts to enhance instruction in other core academic subjects.

Use of funds may include, but are not limited to all of the following activities:

• Field testing and evaluating nascent educational strategies;

• Field testing and evaluating model in-service and pre-service professional development programs for arts educators and other instructional staff;

• Ensuring comprehensive coverage of the arts disciplines—such as visual arts, dance, music, and theater, including the folk arts;

• Developing partnerships among schools, arts organizations, and others with expertise in the arts to combine resources and enhance the quality and sustainability of effective programming;

• Creating materials documenting the implementation and achievement of the model program for other educators and agencies; and

• Obtaining the services of outside experts in the implementation and assessment of the model. (This might include assistance in such areas as curriculum development, implementation strategies, data collection, evaluation design, or other appropriate activities.)

Application Requirements

To be eligible for Arts in Education Model Development and Dissemination funds, applicants must propose to—

(1) Further the development of programs designed to improve or expand the integration of arts education in elementary or middle school curricula;

(2) Develop materials designed to help replicate or adapt the program;

(3) Document the program's outcomes and benefits; and

(4) Develop products and services that can be used to replicate the program in other settings.

Grant applications must describe an existing set of strategies for integrating the arts into the regular elementary and middle school curriculum. These strategies would then be successfully implemented, expanded, documented, evaluated, and disseminated. Taken together, these strategies and methods must comprise a research-based, comprehensive arts in education model that—

• Is based, to the extent possible, on the most rigorous theory, research, and evaluation available, and is effective in improving student achievement and performance and other program objectives;

• Is linked to State and national standards enabling all students to meet challenging expectations, and to improving student and school performance;

• Has the potential to improve students' achievement both in creating, performing, and responding to works of art and in other core academic subjects;

• Demonstrates the feasibility of further replication and dissemination;

• Is applicable to a broad range of high-poverty and disadvantaged, rural and urban schools, including those that are chronically low-performing;

• Makes effective use of technology to further the model's goals;

• Describes methods by which the applicant will assess the model's outcomes; and

• Describes activities that, to the extent possible, coordinate model development with relevant activities of public and private cultural agencies, institutions, and organizations, such as museums, arts education associations, libraries, and theaters. (20 U.S.C. 7271 (f)(1))

In addition to any dissemination work in which the applicants choose to engage, the Department intends to take the products and information resulting from these demonstration grants and share them widely with other communities. Upon completion of the project, the Department requires that any materials or products developed as a part of model development activities be provided to the Department for further dissemination. Such activities will be carried out in full compliance with copyright requirements.

Priorities: Under 34 CFR 75.105(c)(3) we consider only applications that meet the following absolute priority.

Absolute Priority: The Secretary will only fund applications from eligible applicants that propose to work with at least one elementary and/or middle school with no less than 35 percent of its students from low-income families based on poverty criteria set out in Title I, section 1113(a)(5) of the ESEA, and that propose projects that meet all of the requirements described under APPLICATION REQUIREMENTS.

Competitive Priorities: This competition focuses on projects designed to meet the following priorities. Under 34 CFR 75.105(c)(2)(i), we award up to an additional 25 points depending on how well the application meets the priorities. These points are in addition to any points the application earns under the selection criteria.

Competitive Priority 1—Projects in rural or inner-city communities: The Secretary will award five (5) points to projects proposing models that involve schools in rural or inner-city communities.

Competitive Priority 2—Research-based evaluation: The project is designed to determine, through a rigorous evaluation, whether the implemented program produces meaningful effects on student achievement or teacher performance. Evaluations using an experimental design are best for determining program effectiveness. Thus, the project preferably uses an experimental design under which participants—that is, students, teachers, classrooms, or schools—are randomly assigned (a) to receive the program being evaluated or (b) to be in a control group that does not receive the program. Evaluations using an experimental design will receive up to 20 points in addition to any points the application earns under the selection criteria.

If random assignment is not feasible, the project may use a quasi-experimental design with carefully matched comparison conditions. This alternative design attempts to approximate a randomly assigned control group by matching program participants-that is, students, teachers, classrooms or schools—with non-participants having similar pre-program characteristics. Evaluations of this type will receive up to 15 points in addition to any points the application earns under the selection criteria.

Proposed evaluations that use neither experimental designs with random assignment nor quasi-experimental designs using a matched comparison group will receive 0 points under this competitive preference priority.

Before and after participation in the program or the comparison condition, the project evaluator should collect—before the program commences and after it ends—valid and reliable data that measure the impact of participation in the program or in the comparison group.

We determine points under this priority by the quality of the proposed evaluation. We will consider the extent to which the applicant presents a feasible, credible plan that includes the following:

• The type of design to be used (that is, random assignment or matched comparison).

• Outcomes to be measured.

• A discussion of how the applicant plans to assign students, teachers, classrooms, or schools to the program or match them for comparison with other students, teachers, classrooms, or schools.

• A proposed evaluator, preferably independent, with the necessary background and technical expertise to carry out the proposed evaluation.

Definitions: In addition to definitions in the statute and EDGAR, the following definitions apply:

Inner-City Community, for the purpose of this program, is any place that fits code 1, 2 or 3 of the National Center for Educational Statistics (NCES) locale codes. The locale codes are:

1. Central city of a Consolidated Metropolitan Statistical Area (CMSA) or Metropolitan Statistical Area (MSA) with population of 250,000 or more or a population.

2. Central city of a CMSA or MSA but not designated as a large central city.

3. Place within the CMSA or MSA of a large central city.

4. Place within the CMSA or MSA of a mid-size central city.

5. Place not within a CMSA or MSA but with population of 25,000 or more and defined as urban.

6. Place not within a CMSA or MSA with a population of at least 2,500 but less than 25,000.

7. Place not within a CMSA or MSA and designated as rural.

8. Place within a CMSA or MSA designated as rural (this code not available prior to 1998).

Research-based, when used with respect to an activity or a program, means that, to the extent possible, the activity or program is based on the most rigorous theory, research, and evaluation available and is effective in improving student achievement and performance and other program objectives.

Rural, for the purpose of this program, is any place that fits 6, 7 or 8 of the NCES locale codes. Please see the list under the definition of Inner-City Community.

Waiver of Proposed Rulemaking: In accordance with the Administrative Procedure Act (5 U.S.C. 553), it is the practice of the Secretary to offer interested parties the opportunity to comment on proposed rules. Section 437(d)(1) of the General Education Provisions Act (GEPA), however, allows the Secretary to exempt from rulemaking requirements rules governing the first grant competition under a new or substantially revised program authority (20 U.S.C. section 1232(d)(1)). This program is the first Model Arts competition under the program as reauthorized by Public Law 107-100, the No Child Left Behind Act of 2001, and therefore qualifies for this exemption. The Secretary, in accordance with section 437(d)(1) of GEPA has decided to forego public comment in order to ensure timely grant awards. These rules will apply for the FY 2003 competition only.

Selection Criteria: The Secretary uses the following selection criteria to evaluate applications for grants under this competition. In all instances where the word “project” appears in the selection criteria, the reference to an Arts in Education Model Development and Dissemination grant program should be made.

The maximum composite score for all of these criteria is 100 points. The maximum score an applicant may receive is 125 if they fully meet both of the competitive priorities.

The maximum score for each criterion is indicated in parentheses. Within each criterion, the Secretary evaluates each factor equally.

(a) Need for project. (10 points)

In determining the need for the proposed project, the Secretary considers the following factors:

(i) The extent to which the model addresses specific needs of students at risk of educational failure.

(ii) The extent to which specific gaps, weaknesses, or opportunities have been identified in effectively integrating arts into the core curricula, strengthening arts instruction and improving students' academic performance, including skills in creating, performing, and responding to the arts. Also, the nature and magnitude of those gaps or weaknesses and the degree to which they will be addressed by the proposed model.

(b) Significance. (20 points)

In determining the significance of the proposed project, the Secretary considers the following factors:

(i) The potential contribution of the proposed project to increased knowledge or understanding of effective strategies for strengthening the use of high-quality arts in the course of other academic instruction and/or strengthening the place of arts as a core academic subject in the regular school curricula.

(ii) The likely utility and replicability of the proposed model and the extent to which its products (including information, materials, processes, or techniques) will be effective in a variety of settings.

(c) Quality of the project design. (30 points)

In determining the quality of the design of the proposed project, the Secretary considers the following factors:

(i) The extent to which the goals, objectives, and outcomes to be achieved over the proposed project period are clearly specified and measurable.

(ii) The extent to which the proposed model is based on reliable research, effective practice, and/or coherent theory as a means for strengthening the use of high-quality arts in the course of other academic instruction and/or strengthening the place of arts as a core academic subject in the regular school curricula.

(iii) The extent to which the proposed model aims to strengthen the academic performance of students in creating, performing, and responding to the arts, and in the rest of the core curriculum.

(iv) The extent to which the project will document and evaluate the success of the model and disseminate relevant information.

(d) Quality of the management plan. (15 points)

In determining the quality of the management plan for the proposed project, the Secretary considers the following factors:

(i) The adequacy of the management plan to achieve the objectives of the proposed project on time and within budget, including clearly defined responsibilities, relevant contributions and commitment from partners, timelines, continuous improvement strategies, and milestones for accomplishing project tasks.

(ii) The qualifications, including relevant training and experience of key project personnel, major partners, project consultants, and/or subcontractors.

(e) Quality of the project evaluation. (25 points)

In determining the quality of the evaluation, the Secretary considers the following factors:

(i) The extent to which the methods of evaluation are rigorous, thorough, feasible, and appropriate to the goals, objectives, and outcomes of the proposed project.

(ii) The extent to which the methods of evaluation include the use of objective performance measures that are clearly related to the intended outcomes of the project and will produce quantitative and qualitative data on the results of the program.

(iii) The extent to which the evaluation will provide guidance about effective strategies suitable for replication or testing in other settings.

Intergovernmental Review of Federal Programs

This program is subject to Executive Order 12372 (Intergovernmental Review of Federal Programs) and the regulations in 34 CFR Part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order. If you want to know the name and address of any SPOC, see the latest official SPOC list on the Web site of the Office of Management and Budget at the following address: http://www.whitehouse.gov/omb/grants/spoc.html. In States that have not established a process or chosen a program for review, State, areawide, regional, and local entities may submit comments directly to the Department.

Any State Process Recommendation and other comments submitted by a SPOC and any comments from State, areawide, regional, and local entities must be mailed or hand-delivered by the date indicated in this application notice to the following address: The Secretary, E.O. 12372-CFDA #84.351D, U.S. Department of Education, room 7E200, 400 Maryland Avenue, SW., Washington, DC 20202-0125.

We will determine proof of mailing under 34 CFR 75.102 (Deadline date for applications). Recommendations or comments may be hand-delivered until 4:30 p.m. (Washington, DC time) on the date indicated in this notice.

Please note that this address is not the same address as the one to which an applicant submits its completed application. Do not send applications to the above address.

Application Instructions and Forms

The Appendix to this notice contains forms and instructions, a statement regarding estimated public reporting burden, a notice to applicants regarding compliance with section 427 of the General Education Provisions Act, and various assurances and certifications. Please organize the parts and additional materials in the following order:

• Application for Federal Education Assistance (ED 424 (Exp. 11/30/2004)) and instructions and definitions.

• Protection of Human Subjects in Research (Attachment to ED 424).

• Budget Information—Non-Construction Programs (ED Form No. 524) and instructions.

• Application Narrative.

• Assurances—Non-Construction Programs (Standard Form 424B) (Rev. 7-97).

• Certifications regarding Lobbying; Debarment, Suspension, and Other Responsibility Matters; and Drug-Free Workplace Requirements (ED 80-0013, 12/98) and instructions.

• Certification regarding Debarment, Suspension, Ineligibility and Voluntary Exclusion: Lower Tier Covered Transactions (ED 80-0014, 9/90) and instructions. (NOTE: ED 80-0014 is intended for the use of grantees and should not be transmitted to the Department.)

• Certification of Eligibility for Federal Assistance in Certain Programs (ED 80-0016 9/92)).

• Disclosure of Lobbying Activities (Standard Form LLL (Rev. 7-97)) and instructions.

• Survey on Ensuring Equal Opportunity for Applicants and survey instructions.

You may submit information on a photocopy of the application and budget forms, the assurances, and the certifications. However, the application form, the assurances, and the certifications must each have an original signature. We will not award a grant unless we have received a completed application form.

Individuals with disabilities may obtain this document in an alternative format (e.g., Braille, large print, audiotape, or computer diskette) on request to the program contact person listed under FOR FURTHER INFORMATION CONTACT. However, the Department is not able to reproduce in an alternative format the standard forms included in this application notice.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

FOR FURTHER INFORMATION CONTACT: Diane Austin, U.S. Department of Education, 400 Maryland Avenue, SW., Washington, DC 20202-6140. Telephone: (202) 260-1280 or via Internet: diane.austin@ed.gov.

If you use a telecommunications device for the deaf (TDD), you may call the Federal Information Relay Service (FIRS) at 1-800-877-8339.

Application Procedures

The Government Paperwork Elimination Act (GPEA) of 1998, (Pub. L. 105-277) and the Federal Financial Assistance Management Improvement Act of 1999, (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications for grants for FY 2003 under the Arts in Education Model Development and Dissemination Grant program (CFDA #84.351D) be submitted electronically using e-Application available through the Department of Education's e-GRANTS system. The e-GRANTS system is accessible through its portal page at: http://e-grants.ed.gov.

Applicants who are unable to submit an application through the e-GRANTS system may apply for a waiver to the electronic submission requirement. To apply for a waiver, applicants must explain the reason or reasons that prevent them from using the Internet to submit their applications. The reasons must be outlined in a letter addressed to: Diane Austin, U.S. Department of Education, 400 Maryland Avenue, SW., room 3C124, Washington, DC 20202-6140. We must receive your letter no later than two weeks before the deadline for transmittal of applications.

Any application that receives a waiver to the electronic submission requirement will be given the same consideration in the review process as an electronic application.

Pilot Project for Electronic Submission of Applications

In FY 2003, the U.S. Department of Education is continuing to expand its pilot project for electronic submission of applications to include additional formula grant programs and additional discretionary grant competitions. The Arts in Education Model Development and Dissemination Grant program (CFDA #84.351D) is one of the programs included in the pilot project. If you are an applicant under the Arts in Education Model Development and Dissemination Grant program, you must submit your application to us in electronic format or receive a waiver.

The pilot project involves the use of the Electronic Grant Application System (e-Application) Users of e-Application will be entering data on-line while completing their applications. You may not e-mail a soft copy of a grant application to us. The data you enter on-line will be saved into a database. We request your participation in e-Application. We shall continue to evaluate its success and solicit suggestions for improvement.

In submitting an electronic application, please note the following:

• You will not receive any additional point value because you submit a grant application in electronic format, nor will we penalize you if you submit an application in paper format. (Note: We accept your submission of an application in paper format only if we have granted you a waiver as described in the preceding section of this notice.)

• When you enter the e-Application system, you will find information about its hours of operation.

• You must submit all documents electronically, including the Application for Federal Education Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Education Assistance (ED 424) to the Application Control Center after following these steps:

1. Print ED 424 from the e-Application system.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you are prevented from submitting your application on the closing date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under FOR FURTHER INFORMATION CONTACT or (2) the e-GRANTS help desk at 1-888-336-8930.

We have included additional information about the e-Application pilot project (see Parity Guidelines between Paper and Electronic Applications) elsewhere in this notice.

Instructions for Transmitting Applications

If you want to apply for a grant and be considered for funding, you must meet these deadline requirements:

• If you apply for and we grant you a waiver from the electronic submission requirement, you must follow the transmittal instructions under (A) If You Send Your Application by Mail or (B) If You Deliver Your Application by Hand.

• Otherwise, you must follow the transmittal instructions under (C) If You Submit Your Application Electronically.

(A) If You Send Your Application by Mail: You must mail the original and two copies of the application on or before the deadline date. One copy of the application should be unbound and suitable for photocopying. To expedite our review of your application, we would appreciate you voluntarily including an additional three copies of your application. We will not penalize applicants who do not provide additional copies. Mail your application to: U.S. Department of Education, Application Control Center, Attention: CFDA #84.351D, 7th & D Streets, SW., Room 3671, Regional Office Building 3, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(B) If You Deliver Your Application by Hand: You or your courier must hand deliver the original and two copies of the application by 4:30 p.m. (Washington, DC time) on or before the deadline date. One copy of the application should be unbound and suitable for photocopying. To expedite our review of your application, we would appreciate you voluntarily including an additional three copies of your application. We will not penalize applicants who do not provide additional copies. Deliver your application to: U.S. Department of Education, Application Control Center, Attention: CFDA #84.351D, 7th & D Streets, SW., Room 3671, Regional Office Building 3, Washington, DC 20202-4725.

The Application Control Center accepts application deliveries daily between 8 a.m. and 4:30 p.m. (Washington, DC time), except Saturdays, Sundays, and Federal holidays. The Center accepts application deliveries through the D Street entrance only. A person delivering an application must show identification to enter the building.

(C) If You Submit Your Application Electronically: You must submit your grant application through the Internet using the software provided on the e-Grants Web site (http://e-grants.ed.gov) by 4:30 p.m. (Washington, DC time) on the deadline date.

The regular hours of operation of the e-Grants Web site are 6 a.m. Monday until 7 p.m. Wednesday; and 6 a.m. Thursday until midnight Saturday (Washington, DC time). The system is unavailable on Sunday and Federal holidays and is closed for maintenance at 7 p.m. (Washington, DC time) on Wednesday.

Notes

(1) The U.S. Postal Service does not uniformly provide a dated postmark. Before relying on this method, you should check with your local post office.

(2) If you send your application by mail or if you or your courier deliver it by hand, the Application Control Center will mail a Grant Application Receipt Acknowledgment to you. If you do not receive the notification of application receipt within 15 days from the date of mailing the application, you should call the U.S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any—of the competition under which you are submitting your application.

(5) If you submit your application through the Internet via the e-Grants Web site, you will receive an automatic acknowledgment when we receive your application.

Parity Guidelines Between Paper and Electronic Applications

In FY 2003, the U.S. Department of Education is continuing to expand the pilot project that allows applicants to use an Internet-based electronic system for submitting applications. This competition is among those that provide for the electronic submission of applications by all applicants. Under this system, called e-APPLICATION, an applicant submits a grant application to us electronically, using a current version of the applicant's Internet browser. To see e-APPLICATION visit the following address: http://e-grants.ed.gov.

Users of e-APPLICATION, a data driven system, will be entering data on-line while completing their applications. This will be more interactive than just e-mailing a soft copy of a grant application to us. If you submit an application electronically, the data you enter on-line will go into a database and ultimately will be accessible in electronic form to our reviewers.

This pilot project continues the Department's transition to an electronic grant award process. In addition to e-APPLICATION, the Department plans to expand the number of discretionary programs using the electronic peer review (e-READER) system and to increase the participation of discretionary programs offering grantees the use of the electronic annual performance reporting (e-REPORTS) system.

Because this competition mandates the filing of electronic applications, the following guidelines apply only if—as described elsewhere in this notice—we have granted you a waiver to submit an application in paper format.

To help ensure parity and a similar look between electronic and paper copies of grant applications, we are asking each applicant that submits a paper application to adhere to the following guidelines:

• Submit your application on 8½″ by 11″ paper.

• Leave a 1-inch margin on all sides.

• Use consistent font throughout your document. You may also use boldface type, underlining, and italics. However, please do not use colored text.

• Please use black and white, also, for illustrations, including charts, tables, graphs and pictures.

• For the narrative component, your application should consist of the number and text of each selection criterion followed by the narrative. The text of the selection criterion, if included, does not count against any page limitation.

• Place a page number at the bottom right of each page beginning with 1, and number your pages consecutively throughout your document.

Program Authority: 20 U.S.C. 7271 et seq.

Dated: May 9, 2003.
Nina S. Rees,
Deputy Under Secretary for Innovation and Improvement.

Appendix

Instructions for Estimated Public Reporting Burden

According to the Paperwork Reduction Act of 1995, you are not required to respond to a collection of information unless it displays a valid OMB control number. The valid OMB control number for this collection of information is 1855-0006. Expiration date: May 31, 2004. We estimate the time required to complete this collection of information to average 60 hours per response, including the time to review instructions, search existing data sources, gather the data needed, and complete and review the collection of information. If you have any comments concerning the accuracy of the time estimate or suggestions for improving this form, please write to: U.S. Department of Education, 400 Maryland Avenue, SW., Washington, DC 20202-4651.

If you have comments or concerns regarding the status of your submission of this form, write directly to: Diane Austin, U.S. Department of Education, 400 Maryland Avenue, SW., Washington, DC 20202-6140.

Instructions for Application Narrative

Before preparing the Application Narrative you should read carefully the description of the program, the information regarding priorities, and the selection criteria we use to evaluate applications.

The narrative should—

1. Begin with an abstract; that is, a summary of your proposed project;

2. Describe your proposed project in light of each of the selection criteria in the order in which we list the criteria in this notice;

3. List each function or activity for which you are requesting funds; and

4. Include any other pertinent information that might assist us in reviewing your application. When applying for funds as a consortium, individual eligible applicants must enter into an agreement signed by all members. The consortium's agreement must detail the activities each member of the consortium plans to perform, and must bind each member to every statement and assurance made in the consortium's application. The designated applicant must submit the consortium's agreement with its application.

Note: The section on PAGE LIMIT elsewhere in this application notice applies to your application.

Instructions for Budget Narrative

The budget should reflect costs that are reasonable and necessary for administration, and for developing and implementing activities described in the narrative. Complete ED Form 524 Section A—Budget Summary U.S. Department of Education Funds to indicate funds requested for the 36-month project period. Complete ED Form Section B—Non-Federal Funds to indicate support from other public or private United States sources.

Fill in columns (a) Project Year 1; (b) Project Year 2; Project Year 3; and (f) Total. In addition to ED Form 524, applicants must attach budget detail pages that itemize and explain the costs requested for each budget category for each year of the project. The budget forms and budget detail pages are not included in the page limit.

Note: Successful applicants will be expected to report annually on the progress of each project or study included in the grant, including a description of preliminary or key findings and an explanation of any changes in goals, objectives, methodology, or planned products or publications.

BILLING CODE 4000-01-P

[FR Doc. 03-12119 Filed 5-14-03; 8:45 am]

BILLING CODE 4000-01-C